DEPARTMENT OF AGRICULTURE

Submission for OMB Review; Comment Request

January 22, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 26, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: School Meals Operations Study: State Agency COVID-19 Child Nutrition Waivers Evaluation.

OMB Control Number: 0584-0607.

Summary of Collection: This study was originally called the Child Nutrition Program Operations Study II. The Food and Nutrition Service (FNS) has changed the name of the study series to School Meals Operations (SMO) Study to better reflect the specific programs on which the study ordinarily collects data. The annual data collected from this study allows FNS to describe and assess program operations, provide input for legislation and regulations on the CN programs, and develop pertinent technical assistance and training for program staff at the State and local levels. This information is necessary for FNS to understand how recent and proposed legislation, regulations, policies, and initiatives change the child nutrition program operations. However, for the SY 2020-2021 data collection, FNS has repurposed the SMO Study to collect the data needed to meet the congressionally-mandated reporting requirements for the 21 COVID-19-related Child Nutrition waiver requests specified in section 2202 of the Families First Coronavirus Response Act (FFCRA) (Pub. L. 116-127). These nationwide waiver requests affected requirements in the National School Lunch Program (NSLP), the School Breakfast Program (SBP), the NSLP Seamless Summer Option (SSO), the School Food Service Program (SFSP), and the Child and Adult Care Food Program (CACFP).

Need and Use of the Information: This mandatory study will collect data from the State Child Nutrition directors through a web-survey and an administrative data collection. The survey portion of the study will collect information relevant to the implementation of the nationwide waivers, and the administrative data collection will collect disaggregated administrative data from the State agencies. This study will help the State agencies fulfill their congressionally-mandated reporting requirements by focusing on the use of COVID-19-related nationwide waivers and the administration of CN Programs that operated under nationwide waiver authority during March 2020 through September 2020. FNS will use the data to assess meal service levels to determine coverage within and across states, look for patterns and trends across site types, and assess how the waivers improved services to children since, in the absence of these waivers, meal service may not have been possible. The information will also inform FNS's planning, policy, and guidance related to state and local meal service operations during future emergency situations and unanticipated school closures.

Description of Respondents: State, Local, or Tribal Government.

Number of Respondents: 67.

Frequency of Responses: Reporting: Annually.

Total Burden Hours: 1,173.

Ruth Brown,
Departmental Information Collection Clearance Officer.

[FR Doc. 2021-01795 Filed 1-26-21; 8:45 am]

BILLING CODE 3410-30-P